SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting on June 11, 2010, in Harrisburg, Pa. At the public hearing, the Commission will consider: (1) Action on certain water resources projects; (2) action on two projects involving a diversion; and (3) amendments to the current Regulatory Program Fee Schedule. Details concerning the matters to be addressed at the public hearing and business meeting are contained in the SUPPLEMENTARY INFORMATION section of this notice.

DATES: June 11, 2010, at 8:30 a.m.

ADDRESSES: Hilton Harrisburg, One North Second Street, Harrisburg, Pa. 17101.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Presentation by the IMAX production staff at the Harrisburg Whitaker Center for Science and the Arts on development of an educational production on the future of Chesapeake Bay; (2) concluding report on the Paxton Creek Stormwater Management Project; (3) hydrologic conditions in the basin; (4) proposed rulemaking covering 18 CFR parts 806 and 808; (5) ratification/approval of grants/contracts; (6) consideration of a FY-2012 budget and related matters; and (7) election of a new Chairman and Vice Chairman to serve in the next fiscal year. The Commission will also hear a Legal Counsel's report.

Public Hearing—Projects Scheduled for Action:

1. Project Sponsor and Facility: Carrizo Oil & Gas, Inc. (East Branch Wyalusing Creek—Bonnice), Jessup Township, Susquehanna County, Pa. Application for surface water withdrawal of up to 0.720 mgd.

2. Project Sponsor: Chester County Solid Waste Authority. Project Facility: Lanchester Landfill, Salisbury and Caernarvon Townships, Lancaster County, Pa. Application for groundwater withdrawal of 0.190 mgd (30-day average) from two wells and three collection sumps.

3. Project Sponsor: Chester County Solid Waste Authority. Project Facility: Lanchester Landfill, Salisbury and Caernarvon Townships, Lancaster County, Pa. Application for consumptive water use of up to 0.075 mgd.

4. Project Sponsor and Facility: Chief Oil & Gas LLC (Chest Creek—Kitchen), Chest Township, Clearfield County, Pa. Application for surface water withdrawal of up to 0.216 mgd.

5. Project Sponsor and Facility: East Resources, Inc. (Cowanesque River—Egleston), Nelson Township, Tioga County, Pa. Application for surface water withdrawal of up to 0.267 mgd.

6. Project Sponsor and Facility: KMI, LLC (West Branch Susquehanna River—Owner), Mahaffey Borough, Clearfield County, Pa. Application for surface water withdrawal of up to 5.000 mgd.

7. Project Sponsor and Facility: Linde Corporation (Lackawanna River—Carbondale Industrial Development Authority), Fell Township, Lackawanna County, Pa. Application for surface water withdrawal of up to 0.905 mgd.

8. Project Sponsor: New Morgan Landfill Company, Inc. Project Facility: Conestoga Landfill, Bethel Township, Berks County, Pa. Modification to increase consumptive water use approval (Docket No. 20061206).

9. Project Sponsor and Facility: Novus Operating, LLC (Tioga River—Mitchell), Covington Township, Tioga County, Pa. Application for surface water withdrawal of up to 1.750 mgd.

10. Project Sponsor and Facility: P.H. Glatfelter Company, Spring Grove Borough, York County, Pa. Application for consumptive water use of up to 0.460 mgd.

11. Project Sponsor and Facility: Pennsylvania General Energy Company, L.L.C. (Loyalsock Creek—Hershberger), Gamble Township, Lycoming County, Pa. Application for surface water withdrawal of up to 0.918 mgd.

12. Project Sponsor and Facility: Pennsylvania General Energy Company, L.L.C. (Pine Creek—Poust), Watson Township, Lycoming County, Pa. Application for surface water withdrawal of up to 0.918 mgd.

13. Project Sponsor and Facility: Stone Energy Corporation (Wyalusing Creek—Stang), Rush Township, Susquehanna County, Pa. Application for surface water withdrawal of up to 0.750 mgd.

14. Project Sponsor and Facility: Susquehanna Gas Field Services, L.L.C., Meshoppen Borough, Wyoming County, Pa. Application for groundwater withdrawal of up to 0.216 mgd from the Meshoppen Pizza Well.

15. Project Sponsor and Facility: Talisman Energy USA Inc. (Susquehanna River—Welles), Terry Township, Bradford County, Pa. Application for surface water withdrawal of up to 2.000 mgd.

16. Project Sponsor: United Water PA. Project Facility: Newberry System, Newberry Township, York County, Pa. Application for groundwater withdrawal of up to 0.071 mgd from Reeser Well 1.

17. Project Sponsor: United Water PA. Project Facility: Newberry System, Newberry Township, York County, Pa. Application for groundwater withdrawal of up to 0.071 mgd from Reeser Well 2.

18. Project Sponsor: United Water PA. Project Facility: Newberry System, Newberry Township, York County, Pa. Application for groundwater withdrawal of up to 0.072 mgd from Susquehanna Village Well 1.

19. Project Sponsor: United Water PA. Project Facility: Newberry System, Newberry Township, York County, Pa. Application for groundwater withdrawal of up to 0.072 mgd from Susquehanna Village Well 2.

20. Project Sponsor and Facility: Walker Township Water Association, Walker Township, Centre County, Pa. Modification to increase the total groundwater system withdrawal limit (30-day average) from 0.523 mgd to 0.962 mgd (Docket No. 20070905).

Public Hearing—Projects Scheduled for Action Involving a Diversion:

1. Project Sponsor: Chester County Solid Waste Authority. Project Facility: Lanchester Landfill, Salisbury and Caernarvon Townships, Lancaster County, Pa. Application for an existing into-basin diversion of up to 0.050 mgd from the Delaware River Basin.

2. Project Sponsor: EOG Resources, Inc. Project Facility: Blue Valley AMD Treatment Plant, Horton Township, Elk County, Pa. Application for an into-basin diversion of up to 0.322 mgd from the Ohio River Basin.

Public Hearing—Amendments to Regulatory Program Fee Schedule:

Staff is proposing certain amendments to the Regulatory Program Fee Schedule intended to clarify the application of fees to certain projects.

Opportunity to Appear and Comment:

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to June 4, 2010, to be considered.

Authority: Pub. L. 91-575, 84 Stat. 1509 et seq., 18 CFR parts 806, 807, and 808.

Dated: May 11, 2010.
Thomas W. Beauduy,
Deputy Director.

[FR Doc. 2010-12348 Filed 5-21-10; 8:45 am]

BILLING CODE 7040-01-P